DEPARTMENT OF AGRICULTURE

Agricultural Marketing Service

[Doc. No. TM-05-07]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Monday, August 15, 2005, 10:30 a.m. to 5:30 p.m.; Tuesday, August 16, 2005, 8 a.m. to 5:30 p.m.; and Wednesday, August 17, 2005, 8 a.m. to 12 p.m. Requests from individuals and organizations wishing to make an oral presentation at the meeting are due by the close of business on July 25, 2005.

ADDRESSES: The meeting will take place at the Mandarin Oriental Hotel, The Hillwood Room, 1330 Maryland Avenue, SW., Washington, DC 20024. Requests for copies of the NOSB meeting agenda, requests to make an oral presentation at the meeting, or written comments may be sent to Ms. Katherine Benham at USDA-AMS- TMD-NOP, 1400 Independence Avenue, SW., Room 4008-So., Ag Stop 0268, Washington, DC 20250-0200. Requests to make an oral presentation at the meeting may also be sent via facsimile to Ms. Katherine Benham at (202) 205-7808 or electronically to Ms. Katherine Benham at Katherine.benham@ usda.gov.

FOR FURTHER INFORMATION CONTACT: Katherine E. Benham, Advisory Board Specialist, National Organic Program, (202) 205-7806.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six committees working on various aspects of the organic program. The committees are: Compliance, Accreditation, and Certification; Crops; Livestock; Materials; Handling; and Policy Development.

In August of 1994, the NOSB provided its initial recommendations for the National Organic Program (NOP) to the Secretary of Agriculture. Since that time, the NOSB has submitted 69 addenda to its recommendations and reviewed more than 267 substances for inclusion on the National List of Allowed and Prohibited Substances. The last meeting of the NOSB was held on February 28-March 3, 2005, in Washington, DC.

The Department of Agriculture (USDA) published its final National Organic Program regulation in the Federal Register on December 21, 2000 (65 FR 80548). The rule became effective April 21, 2001.

The principal purposes of the meeting are to provide an opportunity for the NOSB to receive an update from the USDA/NOP and hear progress reports from NOSB committees regarding work plan items and proposed action items. The NOSB will also review materials to determine if they should be included on the National List of Allowed and Prohibited Substances.

The Policy Development Committee will discuss factors to be considered for the development of guidance regarding temporary variances for research. The committee will also discuss the future development of criteria and procedures to be used by the NOSB when reviewing substances petitioned for addition to or removal from 205.606. The committee will present, for NOSB consideration, recommended changes to the Board Policies and Procedures Manual that include the following: (1) New materials approval and TAP review information; (2) sunset review process information; (3) procedures for handling questions and answers from the NOP; (4) decision tree process; (5) Chemistry 101 background information; and (6) formatting changes. Finally, the committee will submit, for NOSB consideration, its recommendations concerning the adoption of the collaboration policy document as presented by the NOP as an amendment to the Board Policy and Procedures Manual.

The Certification, Accreditation, and Compliance Committee will present, for NOSB consideration, its recommendation on how to operationalize the process of Peer Review. The committee will present a draft statement concerning NOP's response to the American National Standards Institute (ANSI) report. It will also present, for NOSB consideration, a recommendation developed in cooperation with the Handling Committee that contains certification questions and answers related to retailers and private labelers.

The Livestock Committee will discuss the future development of apiculture standards (based on an existing NOSB recommendation). The committee will present, for NOSB consideration, its recommendations to provide guidance on requirements for access to pasture for ruminants and the addition of Sucrose Octanoate Esters to the National List for use in Apiculture Production.

The Materials Committee will discuss priority items for the sunset review of substances identified by Crops, Livestock, Handling, and Materials Committee. The committee will also discuss possible revisions to the Federal Register Notice (65 FR 43259) that contains instructions for the submission of petitions to add substances to or remove substances from the National List. The committee will present recommendations to (1) restructure the National List of Allowed and Prohibited Substances to reflect the exemption categories contained in OFPA; and (2) clarify the definition of “synthetic” as it applies to substances petitioned for the addition to or removal from the National List.

The Handling Committee will present, for NOSB consideration, a recommendation that provides guidance on determining the differences between agricultural products vs. non-agricultural substances.

The Crops Committee will review and consider approving the following substances for crop production: Soy Protein Isolate, Ammonium Bicarbonate, Chitosan, and Sucrose Octonate Esters. The committee will also submit, for NOSB consideration, recommendations to consider (1) guidance on the allowed uses of Compost and Compost Tea, (2) revisions to the “natural resource” sections of the sample NOSB Organic Farm Plan; and (3) guidance on assessing commercial availability and equivalent varieties of organic seeds.

For further information, see http://www.ams.usda.gov/nop. Copies of the NOSB meeting agenda can be requested from Ms. Katherine Benham by telephone at (202) 205-7806; or by accessing the NOP Web site at http://www.ams.usda. gov/nop.

The meeting is open to the public. The NOSB has scheduled time for public input on Monday, August 15, 2005, from 1 p.m. to 4 p.m.; and Wednesday, August 17, 2005, from 8 a.m. to 10 a.m. Individuals and organizations wishing to make an oral presentation at the meeting may forward their request by mail, facsimile, or e-mail to Katherine Benham at addresses listed in ADDRESSES above. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: July 21, 2005.
Kenneth C. Clayton,
Acting Administrator, Agricultural Marketing Service.

[FR Doc. 05-14768 Filed 7-21-05; 3:47 pm]

BILLING CODE 3410-02-P